DEPARTMENT OF AGRICULTURE

Forest Service

Klamath National Forest, California, Meteor

AGENCY: Forest Service, USDA.

ACTION: Notice of intent to prepare an environmental impact statement.

SUMMARY: The Forest Service will prepare an environmental impact statement on a proposal to conduct vegetative management activities using a variety of methods on National Forest System lands in the Salmon River watershed near the towns of Sawyers Bar, Forks of Salmon, and Cecilville in Siskiyou County, California. Timber harvest and associated activities are proposed on approximately 744 acres. Removal of non-commercial trees and brush are proposed on approximately 131 acres. No new road construction is proposed. Some road decommissioning is proposed. All activities would likely occur within three to five years of the decision being made.

DATES: Comments concerning the scope of the analysis must be received within 14 days of the publication of this notice in the Federal Register. The draft environmental impact statement is expected by May 2003 and the final environmental impact statement is expected by September 2003.

ADDRESSES: Send written comments to Margaret Boland, Forest Supervisor, Klamath National Forest, 1312 Fairlane Road, Yreka, California 96097.

FOR FURTHER INFORMATION CONTACT: Lynda Karns, Team Leader, at the above address or call (530) 841-4469.

SUPPLEMENTARY INFORMATION:

Purpose and Need for Action

The purposes of the proposed action are to maintain stand health by leading stands into a resilient condition where they can provide a sustained yield of wood products; to reduce the risk of losing these stands to catastrophic fire; to maintain unique wildlife habitats; and to provide an economical, safe, and environmentally sensitive transportation system. The need for treatment was identified when the existing condition was compared with the desired condition from the Klamath National Forest Land and Resource Management Plan. These needs or opportunities are taken from the Upper South Fork of the Salmon River Ecosystem Analysis, the North Fork Salmon Watershed Assessment, the Lower South Fork of the Salmon River Ecosystem Analysis, and the Klamath National Forest Forestwide Roads Analysis.

Proposed Action

The Salmon River District of the Klamath National Forest proposes timber harvest and associated activities on approximately 744 acres in the Salmon River Watershed. Harvest prescriptions include 313 acres of commercial thinning, 317 acres of group selection, 36 acres of green tree retention (some acres are double-counted with the thinning acres), 28 acres of seed tree/sanitation, and 50 acres of salvage. All acreages are approximate. Helicopter, cable, and tractor logging systems would be used. Harvest activities would occur on matrix land, which includes the land allocations of General Forest, Partial Retention, and Recreational Wild and Scenic Rivers (WSRs). Selected stream channel areas and unstable areas in the Riparian Reserve land allocation would be thinned to move these areas towards their desired condition. Associated activities including reforestation, precommercial thinning, browse protection, hardwood felling, hand grubbing and chainsaw release of planted trees, gopher control, and mastication (grinding up) of non-commercial trees would occur on matrix land. Project-generated fuels would be treated through a combination of hand piling, prescribed burning, yarding and removal of unmerchantable material, tractor piling, and other mechanical treatment.

Non-commercial trees and brush would be masticated on approximately 131 acres in nine stands outside of timber sale units. Habitat improvement activities would include low-intensity underburning in oak stands, repairing a fence, repairing the outlet to a pond, and improving two water developments.

No new road construction is proposed. One road would be stormproofed (made self-maintaining), one unclassified road would be improved and added to the transportation system, six unclassified roads would be decommissioned, and two roads would have maintenance level changes.

The legal description is Township 37-40 North, Range 11-12 West, Mount Diablo Meridian and Township 10 North, Range 8 East, Humboldt Meridian. All activities would likely be completed within three to five years of the decision being made.

Possible Alternatives

An alternative that includes timber harvest and associated activities on approximately 650 acres, mastication of non-commercial trees and brush on 41 acres outside of timber sale units, oak underburning, and improving two water developments would also be considered. Road work would be similar to the proposed action.

Responsible Official

Margaret Boland, Forest Supervisor, USDA Forest Service, 1312 Fairlane Road, Yreka, California 96097 is the Responsible Official.

Nature of Decision To Be Made

The Forest Service must decide whether it will implement this proposal, an alternative design that moves the area towards the desired condition, or not implement any project at this time.

Scoping Process

In October 2002, this vegetation management project was included in the Klamath National Forest's Schedule of Proposed Actions, which was posted on the Klamath National Forest's internet web site and mailed to interested parties. In January of 2003 a scoping letter for the proposed vegetation management project was mailed to 82 people, groups, and agencies. The scoping letter was sent to those who expressed interest in the proposal, who owned property adjacent to the project area, and to agencies with responsibilities for local resource management. This notice of intent invites additional public comment on this proposal and initiates the preparation of the environmental impact statement. Due to the extensive scoping effects already conducted, no scoping meeting is planned. The public is encouraged to take part in the planning process and to visit with Forest Service officials at any time during the analysis and prior to the decision.

While public participation in this analysis is welcome at any time, comments received within 14 days of the publication of this notice will be especially useful in the preparation of the draft environmental impact statement. The scoping process will include identifying potential issues, significant issues to be analyzed in depth, alternatives to the proposed action, and potential environmental effects of the proposal and alternatives.

Preliminary Issues

Six preliminary issues have been identified for this proposal as follows: (1) Timber harvest and underburning could reduce the quantity and quality of habitat providing for northern spotted owl (NSO) nesting, roosting, foraging, and dispersal activities in Critical Habitat in the Matrix. (2) Timber harvest in conjunction with past cumulative effects in the upper Jones Gulch Drainage could trigger slope failure in the dormant landslide area below. (3) Timber harvest, fuel reduction, and road activities, could cause soil erosion or trigger slope failure, which could increase sediment in streams, contributing to cumulative effects to water quality. (4) Timber harvest, fuel reduction, and road activities could increase sediment in streams, affecting the habitat of anadromous fish. (5) Logging in riparian reserves could cause erosion and result in sedimentation in streams. (6) Portions of units located along the North Fork of the Salmon River, which is designated as Recreational in the WSR System, could adversely affect WSR values.

Comment Requested

This notice of intent initiates the scoping process, which guides the development of the environmental impact statement. The public is encouraged to take part in the process and is encouraged to visit with Forest Service officials at any time during the analysis and prior to the decision. The Forest Service will be seeking information, comments and assistance from Federal, State, and local agencies and other individuals or organizations that may be interested in, or affected by, the proposed vegetation management activities.

Early Notice of Importance of Public Participation in Subsequent Environmental Review

A draft environmental impact statement will be prepared for comment. The comment period on the draft environmental impact statement will be 45 days from the date the Environmental Protection Agency publishes the notice of availability in the Federal Register.

The Forest Service believes, at this early state, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the Final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service handbook 1909.15, Section 21)

Dated: March 31, 2003.
Margaret J. Boland,
Forest Supervisor, Klamath National Forest.

[FR Doc. 03-8318 Filed 4-4-03; 8:45 am]

BILLING CODE 3410-11-P